DEPARTMENT OF COMMERCE

Bureau of Industry and Security

Action Affecting Export Privileges; Tysonic Enterprises and Chan Heep Loong; In the Matter of: Tysonic Enterprises, 10 Anson Road, 15-14 International Plaza, Singapore, 079903 SG, and, Chan Heep Loong, 10 Anson Road, 15-14 International Plaza, Singapore, 079903 SG, 95 Havelock Road, #14-583, Singapore, 160095 SG; Respondents

Order Temporarily Denying Export Privileges

Pursuant to § 766.24 of the Export Administration Regulations (“EAR”),¹ the Bureau of Industry and Security (“BIS”), U.S. Department of Commerce, through its Office of Export Enforcement (“OEE”), has requested that I issue an Order temporarily denying the export privileges under the EAR of Tysonic Enterprises, 10 Anson Road, 15-14 International Plaza, Singapore, 079903 SG, and Chan Heep Loong, 10 Anson Road, 15-14 International Plaza, Singapore, 079903 SG and 95 Havelock Road #14-583, Singapore, 160095 SG, (hereinafter collectively referred to as the “Respondents”) for 180 days.

¹ 15 CFR parts 730-774 (2006). The EAR are issued under the Export Administration Act of 1979, as amended (50 U.S.C. app. §§ 2401-2420 (2000)) (“EAA”). Since August 21, 2001, the EAA has been in lapse and the President, through Executive Order 13222 of August 17, 2001 (3 CFR, 2001 Comp. 783 (2002)), as extended by the Notice of August 2, 2005 (70 FR 45273, (August 5, 2005)), has continued the EAR in effect under the International Emergency Economic Powers Act (50 U.S.C. 1701-1706 (2000)) (“IEEPA”).

In its request, BIS has presented evidence that shows that Chan Heep Loong (“Loong”), the owner and operator of Tysonic Enterprises (“Tysonic”) caused, aided or abetted the doing of an act prohibited by the EAR. Specifically, Loong purchased items subject to both the EAR and the Iranian Transactions Regulations of the Treasury Department's Office of Foreign Assets Control (OFAC),² from U.S. companies and caused those commodities to be shipped to Iran without authorization from OFAC as required by § 746.7 of the EAR.

² See 31 CFR 560.204.

Specifically, the evidence shows that, on or around February 14, 2005, Respondents caused a U.S. company to export GPS engines, items subject to the EAR and classified by Export Control Classification Number 7A994, from the United States to Respondents in Singapore. On or about February 24, 2005, Respondents then shipped these items to Iran Electronics Industries located in Shiraz, Iran. This shipment was a transaction subject to the Iranian Transactions Regulations, and was done without authorization from OFAC as required by § 746.7 of the EAR.

The evidence also shows that on or around March 28, 2005, Respondents caused a U.S. company to export an RF Power Meter, an item subject to the EAR and classified by Export Control Classification Number 3A992, from the United States to Respondents in Singapore. On or about May 12, 2005, Respondents then shipped this item to Iran Electronics Industries located in Shiraz, Iran. This shipment was a transaction subject to the Iranian Transactions Regulations, and was done without authorization from OFAC as required by § 746.7 of the EAR.

The evidence also demonstrates that the Respondents were aware of restrictions on the shipment of U.S. commodities to Iran and that Respondents would not deal with U.S. companies that requested information about Tysonic's intended end-users.

I find that the evidence presented by BIS demonstrates that the Respondents have violated the EAR, that such violations have been deliberate and covert, and that there is a likelihood of future violations, particularly given the nature of the transactions. As such, a Temporary Denial Order (“TDO”) is needed to give notice to persons and companies in the United States and abroad that they should cease dealing with the Respondents in export transactions involving items subject to the EAR. Such a TDO is consistent with the public interest to preclude future violations of the EAR.

Accordingly, I find that a TDO naming Tysonic and Loong as Respondents is necessary, in the public interest, to prevent an imminent violation of the EAR. This Order is issued on an ex parte basis without a hearing based upon BIS's showing of an imminent violation.

It is Therefore Ordered:

First, that the Respondents, Tysonic Enterprises, 10 Anson Road, 15-14 International Plaza, Singapore, 079903 SG, and Chan Heep Loong, 10 Anson Road, 15-14 International Plaza, Singapore, 079903 SG and 95 Havelock Road, #14-583, Singapore, 160095 SG, (collectively the “Denied Persons”), may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other subject to the EAR; or

C. Benefiting in any way from any transaction involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the EAR that has been or will be exported from the United States, including financing or other support activities related to a transaction whereby the Denied Persons acquires or attempts to acquire such ownership, possession or control;

C. Take any action to acquire from or to facilitate the acquisition or attempted acquisition from the Denied Persons of any item subject to the EAR that has been exported from the United States;

D. Obtain from the Denied Persons in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for comment as provided in section 766.23 of the EAR, any other person, firm, corporation, or business organization related to any of the Denied Persons by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary of Commerce for Export Enforcement, which must be received not later than seven days before the expiration date of the Order.

A copy of this Order shall be served on the Respondents and shall be published in the Federal Register.

This Order is effective upon date of publication in the Federal Register and shall remain in effect for 180 days.

Entered this 12th day of April, 2006.
Darryl W. Jackson,
Assistant Secretary of Commerce for Export Enforcement.

[FR Doc. 06-3726 Filed 4-18-06; 8:45 am]

BILLING CODE 3510-DT-M